DEPARTMENT OF HEALTH AND HUMAN SERVICES

National Institutes of Health

NIH Evidence-Based Methodology Workshop on Polycystic Ovary; Syndrome

Notice

Notice is hereby given of the National Institutes of Health (NIH) Evidence-based Methodology Workshop on Polycystic Ovary Syndrome, to be held December 3-5, 2012. The workshop's opening session will be on December 3, from 6:30 p.m. to 9:00 p.m. at the Bethesda Marriott Hotel, 5151 Pooks Hill Road, Bethesda, Maryland 20814. The workshop will continue December 4-5 at the NIH Natcher Conference Center, 45 Center Drive, Bethesda, Maryland 20892; beginning at 8:00 a.m. on December 4 and at 8:30 a.m. on December 5. The workshop will be open to the public.

Polycystic ovary syndrome (PCOS) is a common hormone disorder that affects approximately 5 million reproductive-aged women in the United States. Women with PCOS have difficulty becoming pregnant (i.e., are infertile) due to hormone imbalances that cause or result from altered development of ovarian follicles. One such imbalance is high blood levels of androgens, which can come from both the ovaries and adrenal gland. Other organ systems that are affected by PCOS include the pancreas, liver, muscle, blood vasculature, and fat.

In addition to fertility impairment, other common symptoms of PCOS include:

• Irregular or no menstrual periods (for women of reproductive age)

• Acne

• Weight gain

• Excess hair growth on the face and body

• Thinning scalp hair

• Ovarian cysts.

Women with PCOS are often resistant to the biological effects of insulin and, as a consequence, may have high insulin levels. As such, women with PCOS are at risk for type 2 diabetes, high cholesterol, and high blood pressure. Obesity also appears to worsen the condition. Costs to the U.S. health care system to identify and manage PCOS are approximately $4 billion annually; however, this estimate does not include treatment of the serious conditions associated with PCOS.

For most of the 20th century, PCOS was a poorly understood condition. In 1990, the NIH held a conference on PCOS to create both a working definition of the disorder and diagnostic criteria. The outcome of this conference, the NIH Criteria, served as a standard for researchers and clinicians for more than a decade. In 2003, a consensus workshop in Rotterdam developed new diagnostic criteria, the Rotterdam Criteria.

The 2012 NIH Evidence-based Methodology Workshop on PCOS will seek to clarify:

• Benefits and drawbacks of using the Rotterdam Criteria

• The condition's causes, predictors, and long-term consequences

• Optimal prevention and treatment strategies.

The NIH workshop is sponsored by the Office of Disease Prevention and the Eunice Kennedy Shriver National Institute of Child Health and Human Development. A multidisciplinary steering committee developed the workshop agenda. The NIH Library created an extensive, descriptive bibliography on PCOS to facilitate workshop discussion. During the 2½-day workshop, invited experts will discuss the body of evidence and attendees will have opportunities to provide comments during open discussion periods. After weighing the evidence, an unbiased, independent panel will prepare a report that summarizes the workshop and identifies future research priorities.

Advance information about the workshop and workshop registration materials may be obtained by calling 888-644-2667, or by sending email to prevention@mail.nih.gov. Registration and workshop information are also available on the NIH Office of Disease Prevention Web site at http://prevention.nih.gov.

Please Note: As part of the measures to ensure the safety of NIH employees and property, all visitors must be prepared to show a photo ID upon request. Visitors may be required to pass through a metal detector and have bags, backpacks, or purses inspected or x-rayed as they enter the NIH campus. For more information about the security measures at NIH, please visit the Web site at http://www.nih.gov/about/visitorsecurity.htm.

Dated: September 24, 2012.
Francis S. Collins,
Director, National Institutes of Health.

[FR Doc. 2012-23965 Filed 9-27-12; 8:45 am]

BILLING CODE 4140-01-P